DEPARTMENT OF LABOR

Mine Safety and Health Administration

Proposed Information Collection Request Submitted for Public Comment and Recommendations; Record of Individual Exposure to Radon Daughters

AGENCY: Mine Safety and Health Administration, DOL.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before August 13, 2004.

ADDRESSES: Melissa Stoehr, Acting Chief, Records Management Division, 1100 Wilson Boulevard, Room 2134, Arlington, VA 22209-3939. Commenters are encouraged to send their comments on a computer disk, or via e-mail to stoehr.melissa@dol.gov, along with an original printed copy. Ms. Stoehr can be reached at (202) 693-9827 (voice) or 202-693-9801 (facsimile).

FOR FURTHER INFORMATION CONTACT: Contact the employee listed in the ADDRESSES section of this notice.

SUPPLEMENTARY INFORMATION:

I. Background

MSHA's primary goal is the protection of America's most precious mining resource, the miner. To achieve this goal, this agency has to keep information regarding the hazards faced and the progress made within the industry to develop and maintain a safe and healthy work environment. Records concerning the health and welfare of miners are especially important, given that the nature of the exposure could result in medical complications later in the miner's life. To this end, the record keeping of Radon Daughters is essential information. Each year the industry records and reports the exposure levels that its workforce has faced during the past 12 months. This information is archived and stored for retrieval by the exposed party, or legal representative, should a medical release be deemed necessary. This reporting of the exposure numbers also serves to inform MSHA of the industry expansion or decrease as well as health threats incurred.

During the past calendar year MSHA has received a decreased number of industry responses. These responses indicated that a decreasing number of miners are being employed and exposed within this industry grouping. Concurrently, the United States economy is calling for production rates that are lower than those in recent years. The decrease in production has resulted in a smaller number of employees being exposed to Radon Daughters. Regardless of the number of miners exposed, MSHA needs to keep the recording requirements for Radon Daughters to ensure that the records regarding the miners' level of exposure today is available to them tomorrow and throughout their lifetimes.

II. Desired Focus

Currently, the Mine Safety and Health Administration (MSHA) is soliciting comments concerning the proposed extension of the information collection related to the Record of Individual Exposure to Radon Daughters. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information-technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the FOR FURTHER INFORMATION CONTACT section of this notice for a hard copy.

III. Current Actions

Currently, the Mine Safety and Health Administration (MSHA) is soliciting comments concerning the proposed extension of the information collection related to provide miners protection from radon daughter exposure.

Type of Review: Extension.

Agency: Mine Safety and Health Administration.

Title: Record of Individual Exposure to Radon Daughters

OMB Number: 1219-0003.

Agency Form Number: MSHA 4000-9.

Frequency: Weekly.

Affected Public: Business or other for-profit.

Total Burden Respondents: 2.

Total Number of Responses: 100.

Total Burden Hours: 800.

Estimated Time per Respondent: 8 hours.

Total Burden Cost (operating/maintaining): $0.

Cite/reference | Total respondents | Frequency | Total responses | Average time per response (hours) | Burden
Sampling | 2 | 50 weeks | 100 | 5.00 | 500
Recording Results | 2 | 50 weeks | 100 | 1.50 | 150
Calculating Reporting | 2 | 50 weeks | 100 | 1.25 | 125
Clerical | 2 | 50 weeks | 100 | .25 | 25
Totals |  |  | 100 |  | 800

Comments submitted in response to this notice will be summarized and/or included in the request for Office of Management and Budget approval of the information collection request; they will also become a matter of public record.

Dated at Arlington, Virginia, this 7th day of June, 2004.
David L. Meyer,
Director, Office of Administration and Management.

[FR Doc. 04-13260 Filed 6-10-04; 8:45 am]

BILLING CODE 4510-43-P